DEPARTMENT OF COMMERCE

International Trade Administration

[A-570-863]

Honey from the People's Republic of China: Notice of Extension of Time Limit for the Preliminary Results of the Antidumping Duty Administrative Review and New Shipper Reviews

AGENCY: Import Administration, International Trade Administration, Department of Commerce.

EFFECTIVE DATE: November 13, 2006.

FOR FURTHER INFORMATION CONTACT: Helen Kramer or Judy Lao, AD/CVD Operations, Office 7, Import Administration, International Trade Administration, U.S. Department of Commerce, 14th Street and Constitution Avenue, NW, Washington, DC 20230; telephone: 202-482-0405 and 202-482-7924, respectively.

SUPPLEMENTARY INFORMATION:

Background

On January 31, 2006, the Department of Commerce (“the Department”) published the initiation of its new shipper antidumping duty reviews of honey from the People's Republic of China (“PRC”) for four companies, covering the period of December 1, 2004, through November 30, 2005. See Honey from the People's Republic of China: Notice of Initiation of New Shipper Antidumping Duty Reviews, 71 FR 5051 (January 31, 2006). On February 1, 2006, the Department published the initiation of the administrative review of the antidumping duty order on honey from the PRC covering the period December 1, 2004, through November 30, 2005. See Initiation of Antidumping and Countervailing Duty Administrative Review and Request for Revocation in Part, 71 FR 5241 (February 1, 2006). On July 3, 2006, the Department extended the preliminary results for the new shipper review by 120 days. See Honey from the People's Republic of China: Notice of Extension of Time Limit for the Preliminary Results of the New Shipper Review, 71 FR 37904 (July 3, 2006). On July 12, 2006, Tianjin Eulia Honey Co., Ltd., one of the new shipper companies in this proceeding, withdrew its request for a new shipper review. The Department rescinded the review for Tianjin Eulia Honey Co., Ltd. on July 31, 2006. See Honey from the People's Republic of China: Notice of Rescission of Antidumping Duty New Shipper Review, 71 FR 43110 (July 31, 2006). On August 16, 2006, the Department extended the preliminary results for the administrative review by 80 days. See Honey from the People's Republic of China: Notice of Extension of Time Limit for the Preliminary Results of the Antidumping Duty Administrative Review, 71 FR 47170 (August 16, 2006). The preliminary results for the new shipper reviews and the administrative review are currently due no later than November 21, 2006.

On October 25, 2006, the Department received a letter from counsel to Inner Mongolia Altin Bee-Keeping Co., Ltd., Dongtai Peak Honey Industry Co., Ltd, and Qinhuangdao Municipal Dafeng Industrial Co., Ltd. agreeing to waive the new shipper time limits in accordance with 19 CFR § 351.214(j)(3). Therefore, in accordance with 19 CFR § 351.214(j)(3), on October 25, 2006, the Department acknowledged respondents' waiver of the new shipper review time limits and aligned the new shipper reviews with the administrative review. See Department's Memo to All Interested Parties dated October 25, 2006, in which the Department acknowledged that all three remaining new shipper companies waived the new shipper time limits, and the Department aligned the current new shipper reviews with the current administrative review.

Extension of Time Limit for Preliminary Results of Review

Pursuant to section 751(a)(3)(A) of the Tariff Act of 1930, as amended (“the Act”), the Department shall make a preliminary determination in an administrative review of an antidumping duty order within 245 days after the last day of the anniversary month of the date of publication of the order. The Act further provides that the Department may extend that 245-day period to 365 days if it determines it is not practicable to complete the review within the foregoing time period. See section 751(a)(3)(A) of the Act.

Completion of the preliminary results for the administrative review within the 245-day period is not practicable. The administrative review and new shipper review cover six companies involving complex issues regarding surrogate values. The Department is also required to gather and analyze a significant amount of information pertaining to each company's sales and production processes. Additionally, the Department only recently received information on appropriate surrogate values from both respondents and petitioners. See Submission from Petitioners re: Surrogate Values for the Factors of Production in the 8th New Shipper Administrative Review of the Antidumping Duty Order for Honey from the PRC, dated September 22, 2006; see also Submission from Respondents regarding Surrogate Values, dated September 20, 2006; see also Rebuttal Comments from Petitioners and Respondents on Proposed Surrogate Value Data, dated October 10, 2006, and October 12, 2006, respectively. The Department requires further time to review the data contained in these submissions for consideration in the preliminary results of these new shipper and administrative reviews. Therefore, in accordance with section 751(a)(3)(A) of the Act, the Department is extending the time period for completion of the preliminary results of this review by 30 days, until December 21, 2006.

This notice is published in accordance with sections 751(a)(3)(A) and 777(i) of the Act.

Dated: November 3, 2006.
Stephen J. Claeys,
Deputy Assistant Secretary for Import Administration.

[FR Doc. E6-19113 Filed 11-9-06; 8:45 am]

BILLING CODE 3510-DS-S